DEPARTMENT OF TRANSPORTATION

Federal Aviation Administration

Notice of Availability of the Final Environmental Assessment (EA) and Finding of No Significant Impact/Record of Decision (FONSI/ROD) for the Runway 13/31 Shift/Extension and Associated Improvements Project for the Detroit Lakes-Becker County Airport (DTL) in Detroit Lakes, MN

AGENCY: Federal Aviation Administration (FAA), DOT.

ACTION: Notice.

SUMMARY: The FAA is issuing this notice to advise the public that the FAA has prepared and approved (August 23, 2016) a FONSI/ROD based on the Final EA for the DTL Runway 13/31 Shift/Extension and Associated Improvements Project. The Final EA was prepared in accordance with the National Environmental Policy Act (NEPA) of 1969, as amended, FAA Orders 1050.1F, “Environmental Impacts: Policies and Procedures” and 5050.4B, “NEPA Implementing Instructions for Airport Actions”.

DATES: This notice is effective September 21, 2016.

FOR FURTHER INFORMATION CONTACT: Mr. Josh Fitzpatrick, Environmental Protection Specialist, FAA Dakota-Minnesota Airports District Office (ADO), 6020 28th Avenue South, Suite 102, Minneapolis, Minnesota, 55450. Telephone number is (612) 253-4639. Copies of the FONSI/ROD and/or Final EA are available upon written request by contacting Mr. Josh Fitzpatrick through the contact information above.

SUPPLEMENTARY INFORMATION: The Final EA evaluated the DTL Runway 13/31 Shift/Extension and Associated Improvements Project. Due to airfield deficiencies identified by the FAA and Minnesota Department of Transportation (MnDOT) at DTL, the purpose of the proposed action is to provide a usable, reliable, and safe primary runway at an airport in or near the City of Detroit Lakes that is compliant with FAA and MnDOT design standards, guidance, and minimum system objectives for key airports.

The FAA and the City of Detroit Lakes jointly prepared the Final Federal EA/State of Minnesota Environmental Impact Statement (EIS), pursuant to the requirements of the NEPA and the Minnesota Environmental Policy Act.

The Final EA identified and evaluated all reasonable alternatives. Numerous alternatives were considered but eventually discarded for not meeting the purpose and need. Five alternatives (No Action, Alternative 3, Alternative 4, Alternative 5, and Alternative 7) were examined in detail. After careful analysis and consultation with various resource agencies, the City of Detroit Lakes selected Alternative 3 as the preferred alternative. Alternative 3 satisfies the purpose and need while minimizing impacts.

Alternative 3 includes a shift, widening, and extension to 5,200-feet of DTL's primary runway and parallel taxiway to meet FAA and MnDOT design standards and operator runway length requirements. The primary runway would be reconstructed to replace aging and deteriorating pavement. Two taxiways would be removed and replaced that connect the primary runway and parallel taxiway. An instrument approach to the Airport's primary runway with CAT-I minimums (½ statute mile visibility and 200-foot cloud ceiling height) to meet MnDOT requirements would be implemented. The Airport's Automated Weather Observing System (AWOS) will be relocated due to the project and property will be acquired to accommodate the runway and approach improvements. A relocation of the runway edge lights, runway end identifier lights (REILS), vertical approach slope indicator (VASI) unit, and a Medium Intensity Approach Lighting System with Runway Alignment Indicator Lights (MALSR) will be required. An access road for the MALSR will be required for maintenance activities.

Alternative 3 includes 15.5 acres of wetland impact. The loss of wetlands will be mitigated through the creation of 32.3 acres of wetlands onsite. An additional clearing of 17.6 acres of upland trees and 7.6 acres of wetland trees in the Runway 31 approach to provide adequate clearance of the applicable airspace will be required.

Based on the analysis in the Final EA, the FAA has determined that Alternative 3 will not result in significant impacts to resources identified in accordance with FAA Orders 1050.1F and 5054.4B. Therefore, an environmental impact statement will not be prepared.

Issued in Minneapolis, Minnesota on September 1, 2016.
Andy Peek,
Manager, Dakota-Minnesota Airports District Office, FAA, Great Lakes Region.

[FR Doc. 2016-22739 Filed 9-20-16; 8:45 am]

BILLING CODE 4910-13-P